DEPARTMENT OF LABOR

Employment and Training Administration

Comment request for Information Collection for Quick Turnaround Surveys of All Statutes and Programs for Which the Employment and Training Administration (ETA) is Responsible (Extension with Revisions)

AGENCY: Employment and Training Administration, Labor.

ACTION: Notice.

SUMMARY: The Department of Labor, as part of its continuing effort to reduce paperwork and respondent burden, conducts a preclearance consultation program to provide the public and Federal agencies with an opportunity to comment on proposed and/or continuing collections of information in accordance with the Paperwork Reduction Act of 1995 (44 U.S.C. 3506(c)(2)(A)). This program helps to ensure that requested data can be provided in the desired format, reporting burden (time and financial resources) is minimized, collection instruments are clearly understood, and the impact of the collection requirements on respondents can be properly assessed.

Currently, ETA is soliciting comments concerning the collection of data about quick turnaround surveys for statutes and programs for which ETA is responsible. Authorization for this process will expire in November 2013. To obtain a copy of the proposed information collection request (ICR), please contact the office listed below in the addresses section of this notice.

DATES: Written comments must be submitted to the office listed in the addresses section below on or before October 7, 2013.

ADDRESSES: Submit written comments to U.S. Department of Labor, Employment and Training Administration, Office of Policy Development and Research, Attention: Richard Muller, 200 Constitution Avenue NW., Room N-5641, Washington, DC 20210. Telephone number: (202) 693-3680 (this is not a toll-free number). Fax: (202) 693-2766. Email: muller.richard@dol.gov.

FOR FURTHER INFORMATION CONTACT: Richard Muller, Employment and Training Administration, U.S. Department of Labor, 200 Constitution Avenue NW., Room N-5637, Washington, DC 20210; (202) 693-3680 (this is not a toll-free number); email: Muller.Richard@dol.gov; fax: (202) 693-2766 (this is not a toll-free number).

SUPPLEMENTARY INFORMATION:

I. Background

ETA is soliciting comments regarding an extension of a current Office of Management and Budget (OMB) clearance for a series of quick turnaround surveys in which data will be collected from State workforce agencies, local workforce investment areas, and other entities involved in employment and training and related programs. The surveys will focus on a variety of issues concerning a broad spectrum of programs administered by ETA including the governance, administration, funding, service design, and delivery structure of workforce programs authorized by the Workforce Investment Act of 1998 (WIA).

ETA has a continuing need for information on the operation of all of its programs and is seeking another extension of the clearance for conducting a series of 8 to 20 separate surveys over the next 3 years. Each survey will be short (typically 10-30 questions) and, depending on the nature of the survey, may be administered to state workforce agencies, local workforce boards, American Job Centers, employment service offices, or other entities involved in employment and training or related activities. Each survey will be designed on an ad hoc basis and will focus on topics of pressing policy interest. Examples of broad topic areas include:

• Local management information system developments

• New processes and procedures

• Services to different target groups

• Integration and coordination with other programs

• Local workforce investment board membership and training

ETA needs quick turnaround surveys for a number of reasons. The most pressing reason concerns the need to understand key operational issues in light of changes in focus deriving from the Administration's policy priorities. ETA needs timely informaion that identifies the scope and magnitude of various practices or problems, to fulfill its obligations to develop high quality policy, administrative guidance, regulations, and technical assistance.

ETA will request data in the quick turnaround surveys that are not otherwise available. Other research and evaluation efforts, including case studies or long-range evaluations, either cover only a limited number of sites or take many years for data to be gathered and analyzed. Administrative information and data are too limited. The Five-Year Workforce Investment Plans, developed by States and local areas, are too general in nature to meet ETA's specific informational needs. Quarterly or annual data reported by States and local areas do not provide information on key operational practices and issues. Thus, ETA has no alternative mechanism for collecting precise information that both identifies the scope and magnitude of emerging issues and provides the information on a quick turnaround basis.

ETA will make every effort to coordinate the quick turnaround surveys with other research it is conducting, in order to ease the burden on local and State respondents, to avoid duplication, and to fully explore how interim data and information from each study can be used to inform other studies. Information from the quick turnaround surveys will complement but not duplicate other ETA reporting requirements or evaluation studies.

II. Review Focus

The Department is particularly interested in comments which:

• Evaluate whether the proposed collection of information is necessary for the proper performance of the functions of the agency, including whether the information will have practical utility;

• Evaluate the accuracy of the agency's estimate of the burden of the proposed collection of information, including the validity of the methodology and assumptions used;

• Enhance the quality, utility and clarity of the information to be collected; and

• Minimize the burden of the collection of information on those who are to respond, including through the use of appropriate automated, electronic, mechanical, or other technological collection techniques or other forms of information technology, e.g., permitting electronic submissions of responses.

III. Current Actions:

Type of Review: Extension with changes.

Title: Quick Turnaround Surveys of all statutes and programs for which ETA is responsible.

OMB Number: 1205-0436.

Affected Public: State and local workforce agencies and workforce investment boards, and Employment and Training-related partner program agencies at the State and local levels.

Total Respondents: Varies by survey, from 54 to 250 (or, occasionally, more) respondents per survey, for up to 20 surveys. The calculations in the Summary Burden chart below are based on an upper limit of 250 respondents; however, it is understood that an occasional survey may exceed that upper limit by no more than 370 respondents. That total number of 620 is derived from adding together the total number of State and local workforce investment boards.

Table 40—Respiratory System: Lungs and Pleura
| Sample size | Number of questions | Average time per question (minutes) | Aggregate burden hours per survey (hours) | Estimated number of surveys | Total annual burden hours
Lower-Bound | 54 | 10 | 1 | 9 | 8 | 72
Upper-Bound | 250 | 30 | 3 | 375 | 20 | 7,500

Total Burden Cost for capital and startup: $0.

Total Burden Cost for operation and maintenance: $0.

Comments submitted in response to this ICR will be summarized and/or included in the request for OMB approval of the information collection request; they will also become a matter of public record.

Dated: July 26, 2013.
Eric M. Seleznow,
Acting Assistant Secretary, Employment and Training Administration.

[FR Doc. 2013-19120 Filed 8-7-13; 8:45 am]

BILLING CODE 4510-FN-P